NATIONAL SCIENCE FOUNDATION

Committee on Equal Opportunities in Science and Engineering; Notice of Meeting

In accordance with the Federal Advisory Committee Act Public Law 92-463, as amended, the National Science Foundation announces the following meeting:

Name: Committee on Equal Opportunities in Science and Engineering (1173).

Date/Time: June 20, 2002, 8 am-5 pm and June 21, 2002, 8 am-2 pm.

Place: Room 1235, National Science Foundation, 4201 Wilson Blvd., Arlington, VA.

Type of Meeting: Open.

Contact Person: John Wilkinson, Executive Liaison to CEOSE, National Science Foundation, 4201 Wilson Blvd., Arlington, VA 22230 Phone (703) 292-8180.

Minutes: May be obtained from the Executive Liaison at the above address.

Purpose of Meeting: To provide advice and recommendations concerning broadening participation in science and engineering.

Agenda

Thursday, June 20, 2002

8 a.m.—Light refreshments with NSF Staff

8:30 a.m.—Welcome; Approval of February 2002 Minutes

8:45 a.m.—Report of NSF Executive Liaison

9 a.m.—Discussion of Committee Agenda

9:15 a.m.—Discussion of Mentoring Conference

9:45 a.m.—Update on Science Resources Statistics Activities

10:15 a.m.—Break

10:30 a.m.—Discussion on Successful Approaches to Increasing Minority Participation in Science and Engineering Careers

12 Noon—Lunch

1 p.m.—Discussion of Decadal Plan for Environmental Research and Education at NSF

1:30 p.m.—Discussion on Merit Review Criterion 2

3 p.m.—Break

3:30 p.m.—Committee Discussion: Report Planning for 2002 CEOSE Report

5 p.m.—Adjourn for the day

Friday, February 8

8 a.m.—Light refreshments

8:30 a.m.—Committee Discussion:

—Items for the Deputy Director, NSFA

Status of Cross-Cutting Issues

10 a.m.—Break

10:15 a.m.—Discussion with the Deputy Director, NSF—Dr. Joseph Bordogna

11 a.m.—Committee Discussion: Report Planning for 2002 CEOSE Report

12 Noon—Lunch

1 p.m.—Committee Discussion: Wrap-up and Future Directions

2 p.m.—Adjourn

Dated: May 28, 2002.
Susanne Bolton,
Committee Management Officer.

[FR Doc. 02-13773 Filed 5-31-02; 8:45 am]

BILLING CODE 7555-01-M